SMALL BUSINESS ADMINISTRATION

[Declaration of Disaster #3526]

State of Indiana; Amendment #2

In accordance with the notice received from the Department of Homeland Security—Federal Emergency Management Agency, effective August 6, 2003, the above numbered declaration is hereby amended to establish the incident period for this disaster as beginning on July 4, 2003 and continuing through August 6, 2003.

All other information remains the same, i.e., the deadline for filing applications for physical damage is September 9, 2003, and for economic injury the deadline is April 12, 2004.

(Catalog of Federal Domestic Assistance Program Nos. 59002 and 59008)
Dated: August 8, 2003.
Cheri L. Cannon,
Acting Associate Administrator for Disaster Assistance.

[FR Doc. 03-20890 Filed 8-14-03; 8:45 am]

BILLING CODE 8025-01-P